DEPARTMENT OF COMMERCE

National Oceanic and Atmospheric Administration

[Docket Number: 031110276-3276-01]

Notice of Intent To Prepare an Environmental Impact Statement for the Construction of an Office/Laboratory/Classroom Facility for the Canaan Valley Institute

AGENCY: Office of Oceanic and Atmospheric Research (OAR), National Oceanic and Atmospheric Administration (NOAA), U.S. Department of Commerce.

ACTION: Notice of Intent to prepare an Environmental Impact Statement (EIS) for the construction of an Office/Laboratory/Classroom Facility for the Canaan Valley Institute (CVI); request for comments.

SUMMARY: NOAA is the lead agency funding and overseeing the proposed action and preparation of this EIS by CVI for construction of an office/laboratory/classroom facility near the town of Davis, West Virginia. In accordance with the National Environmental Policy Act of 1969, this notice also initiates the public scoping process for the preparation of the EIS to examine potential issues and identify key resource impacts.

DATES: Written comments on the intent to prepare an EIS will be accepted for thirty days following publication of this notice. At least one public scoping meeting will be scheduled in early 2004. An announcement, notifying the public of the meeting dates, times, and locations, will be made once the meeting is scheduled. Both agency personnel and the public will be invited to attend this meeting. The dual purpose of this meeting will be to identify the scope of issues that will be addressed in the EIS and to solicit public input relating to the scope of studies for the construction of the facility and its access road.

ADDRESSES: To submit comments, request further information, request a detailed map of the proposed sites and roadway access alternatives, and/or have your name added to the EIS mailing list, contact Jim Rawson, Canaan Valley Institute, PO Box 673, Davis, WV 26260; Telephone (304) 463-4739; Fax (304) 463-4759 or Bruce Hicks, NOAA Air Resources Laboratory, Route: R/ARL, SSMC3 Rm. 3152, 1315 East West Highway, Silver Spring, MD 20910-3282; Telephone (301) 713-0684 x136; Fax (301) 713-0119.

SUPPLEMENTARY INFORMATION: Canaan Valley Institute (CVI) will construct a new facility on their property to be utilized as their headquarters. This facility is proposed to include office, laboratory, classroom, and conference room space, as well as some outdoor interpretive areas. This project would be funded through a NOAA grant. The new headquarters would include a view of the Canaan Valley, which is important for both visitor experience and interpretation potential, e.g., an informational viewing area for the Canaan Valley Wildlife Refuge. In addition, a two-lane road is proposed to be constructed to access this facility from either State Route 93 or State Route 32. The entire CVI property is approximately 3,200 acres and primarily deciduous forest. The proposed project would disturb approximately four acres for construction of the headquarters facility and an additional 5-10 acres for an access road.

Several key environmental features exist within or adjacent to the CVI property. The federally endangered Appalachian Northern Flying Squirrel (Glaucomys sabrinus fuscus) has known habitat in the southwestern corner of the project area. The Canaan Valley National Wildlife Refuge borders the eastern edge of the project area. This refuge contains the largest freshwater wetland in central and southern Appalachia and is known habitat for the Appalachian Northern Flying Squirrel and the federally threatened Cheat Mountain salamander (Plethodon nettingi). The Monongahela National Forest is located south-southwest of the CVI property and provides habitat for nine federally listed threatened or endangered species. Two of the five streams within or near the CVI property (Blackwater River and Beaver Creek) are classified as High Quality by the West Virginia Department of Environmental Protection. CVI, partnering with West Virginia University and other entities, is undertaking a long-term study of an area of drainage near the center of the CVI property. This study, along with other activities, may be integrated into the Long Term Ecological Research program. Another drainage, Wymer Run, the municipal water supply for the nearby town of Davis, is located in the center of the property.

At least three alternative site locations and five access alternatives will be developed and are expected to be analyzed to evaluate the environmental impacts, costs, and ability to meet project needs of each. The public involvement plan for this project will give citizens, public officials, community stakeholders, and other organizations and groups a medium to obtain information regarding the project as well as provide input and get involved with the project. This plan will include general public meetings, public officials workshops, and neighborhood and special purpose meetings. The public involvement requirements for Environmental Justice as required by Title VI of the Civil Rights Act of 1964 and Executive Order (EO) 12868 will be addressed. In addition, the public may also be informed about the project through news releases, project newsletters, or the CVI Web site, www.canaanvi.org. Input obtained by this process will be used throughout the entire process of project development of defining alternatives, options, and mitigation.

Background Information: CVI is made up of a diverse team of scientists, landscape ecologists, economists and business professionals, watershed resource specialists, geographic information systems analysts, software developers, community and program developers, grant writers, and a highly skilled support staff. Their mission is to aid stakeholders in their efforts to implement locally determined solutions to problems that threaten the sustainability of their watersheds and communities.

Dated: November 10, 2003.
Louisa Koch,
Deputy Assistant Administrator, OAR.

[FR Doc. 03-28665 Filed 11-14-03; 8:45 am]

BILLING CODE 3510-KC-P